DEPARTMENT OF THE INTERIOR

Fish and Wildlife Service

Information Collection Renewal Submitted to the Office of Management and Budget (OMB) for Approval Under the Paperwork Reduction Act

AGENCY: Fish and Wildlife Service, Interior.

ACTION: Notice; request for comments.

SUMMARY: The U.S. Fish and Wildlife Service has submitted to OMB the requirements for collection of information from applicants who wish to obtain a permit to conduct activities under the Migratory Bird Treaty Act, the Bald and Golden Eagle Protection Act, and the Convention on International Trade in Endangered Species, and for collection of report information about activities conducted under permits. OMB approval of information collections is required under the Paperwork Reduction Act. If you wish to obtain copies of the proposed information collection requirements, related forms, and explanatory material, contact the Collection Clearance Officer at the address listed below.

DATES: OMB has up to 60 days to approve or disapprove information collection but may respond after 30 days. Therefore, to ensure maximum consideration, you must submit comments on or before April 9, 2001.

ADDRESSES: Send your comments and suggestions on specific requirements to the Office of Management and Budget, Attention: Department of the Interior Desk Officer, 725 17th Street, NW, Washington, DC 20503, and to Rebecca Mullin, Collection Clearance Officer, U.S. Fish and Wildlife Service, MS 222-ARLSQ, 4401 North Fairfax Drive, Arlington, VA 22203.

FOR FURTHER INFORMATION CONTACT: For further information regarding this submission or to request a copy of the information collection request, explanatory information and related forms, contact Rebecca A. Mullin, Collection Clearance Officer at (703) 358-2287, or electronically to rmullin@fws.gov.

SUPPLEMENTARY INFORMATION: OMB regulations at 5 CFR 1320, which implement provisions of the Paperwork Reduction Act of 1995 (Pub. L., 104-13), require that interested members of the public and affected agencies have an opportunity to comment on information collection and recordkeeping activities (see 5 CFR 1320.8(d)). We published a 60-day notice inviting public comment on this information collection in the Federal Register on September 6, 1999 (65 FR 54060). We received no comments.

We have submitted a request to OMB for renewal of their approval for the information collections assigned OMB control numbers 1018-0022 and 1018-0099, and to approve several new forms. We are not allowed to conduct or sponsor a collection of information, and a person is not required to respond to a request for information, unless it displays a currently valid OMB control number.

We requested renewed approval of the collection of information for Service license/permit application forms 3-200-6 through 3-200-18. We also requested approval for a new application form 3-200-67 for special Canada goose permits, for which the collection of information was assigned OMB approval number 1018-0099 during the rulemaking process (64 FR 32774, June 17, 1999). We have requested that the special Canada goose information collection be incorporated under OMB No. 1018-0022. We also requested approval for permit reporting forms 3-202-1 through 3-202-5, which supersede forms 3-202a, 3-202c, 3-430b, and 3-430d. Also, we are requesting approval for three new report forms, 3-202-7, 3-202-8, and 3-202-9. These new report forms do not represent new information collections. Rather, we have taken existing report forms that covered several permit types and created new forms tailored to the specific permit activity. This will make each report form easier for permittees to understand and complete. We also requested approval for a streamlined application form that is specific to renewing expired or expiring permits (3-200-68). This does not represent a new information collection-merely a specific form to facilitate renewal requests. Finally, we requested approval for two new application forms, 3-200-69 and 3-200-70, which will assist individuals and entities in obtaining permits under the Convention on International Trade in Endangered Species and the Bald and Golden Eagle Protection Act to temporarily transport eagle parts into and out of the United States, as authorized by a recent amendment of 50 CFR 22.21 and 22.22 (64 FR 50467; September 17, 1999). We requested a 3-year term of approval for this information collection activity, which is the maximum term allowed.

We have reformatted and revised all of our application and report forms to improve clarity and presentation. This should improve the completeness of applications and reports we receive and reduce delays associated with having to contact applicants and permittees for additional information or clarification. Revisions were made to the annual report forms to (1) clarify the information being collected, (2) convert report form numbers to consecutive numbers, (3) eliminate collection of certain information that we no longer track, and (4) reorganize the forms to accommodate future electronic submission of data. For instance, on rehabilitation annual reports, instead of collecting certain information on each individual birds received by the permittee, we will collect a summary of the information by species. All of our forms will be available on the Internet following OMB approval.

We invite comments concerning this information collection, including on: (1) Whether the collection of information is necessary for the proper perWormance of the functions of the agency, including whether the information will have practical utility; (2) the accuracy of the agency's estimate of burden, including the validity of the methodology and assumptions used; (3) ways to enhance the quality, utility and clarity of the information to be collected; and (4) ways to minimize the burden of the collection of information on those who are to respond, including the use of appropriate automated, electronic, mechanical, or other technological collection techniques or other forms of information technology. The information collections in this program are part of a system of records covered by the Privacy Act 95 U.S.C. 552(a)).

The information on the application forms will be used to determine whether an applicant meets criteria established in the various migratory bird treaties, laws, and regulations for issuance of a permit or whether a permit must be suspended, revoked, or denied. Information on the report forms will be used to monitor permit compliance and track species taken from the wild.

The information collection requirements in this submission implement the regulatory requirements of the Migratory Bird Treaty Act (16 U.S.C. 704) (50 CFR part 21), the Lacey Act (18 U.S.C. 42-44)(50 CFR part 14), the Bald and Golden Eagle Protection Act (16 U.S.C. 668)(50 CFR part 22), and the Convention on International Trade in Endangered Species of Wild Fauna and Flora (CITES) (27 UST 108)(50 CFR part 23), and are contained in Service regulations in Chapter I, Subchapter B of Title 50 Code of Federal Regulations (CFR). Common permit application and recordkeeping requirements have been consolidated in 50 CFR part 13.

The individual permit types with information collection requirements, the estimated number of responses per year, the burden hours, and the applicable regulatory authority are included in the table below. Since the previous Federal Register notice, we changed the annual report form numbers to make them consecutive. In addition, some data in the table have been updated since the previous notice. With the exception of special Canada goose permits (5 years), depredation permits (1 year), golden eagle nest permits (2 years), and Indian religious permits (indefinite), most migratory bird permits are valid for 3 years. Most of these permits are renewable. To renew a permit, an applicant may complete a renewal application instead of the regular application for the type of permit he or she holds. Therefore, the figures in the Total No. of Responses column do not reflect the total number of requests received annually for a given type of permit.

Activity and application and report form number (* means report form used for more than one permit activity) | Total No. of responses (annually) | Estimated completion time (hr) | Total annual burden hours | Regulatory authority
Import/Export, 3-200-6 | 61 | 1 | 61 | 50 CFR 21.2, 21.11, 21.21.
Scientific Collecting, 3-200-7 | 91 | 4 | 364 | 50 CFR 21.2, 21.11, 21.23.
Annual Report, 3-202-1* | 484 | 1 | 484 |
Taxidermy, 3-200-8 | 604 | 1 | 604 | 50 CFR 21.2, 21.11, 21.24.
Waterfowl Sale and Disposal, 3-200-9 | 98 | 1 | 98 | 50 CFR 21.2, 21.11, 21.25.
Notice of Transfer, 3-186* | 8,002 | 0.17 (10 min) | 1,333
Annual Report, 3-202- | 1,540 | 0.5 (30 min) | 770
Canada Goose, 3-200-57 | 3 | 6 | 18 | 50 CFR 21.2, 21.11, 21.26.
Annual Report 3-202-9 | 3 | 1 | 3
Special Purpose Permits:
—Salvage, 3-200-10a | 184 | 1 | 184 | 50 CFR 21.2, 21.11, 21.27.
AnnualReport-Salvage, 3-202-3 | 1,772 | 1 | 1,772
—Rehabilitation, 3-200-10b | 129 | 2.5 | 322
Annual Report-Rehab., 3-202-4 | 2,134 | 1.5 | 3,201
—Education Possession/Live, 3-200-10c | 86 | 2.5 | 215
Annual Report-Edu-Poss/Live, 3-202-5* | 571 | 1 | 571
—Education Possession/Dead, 3-200-10d | 56 | 2 | 112
Ann. Report-Edu-Poss/Dead, 3-202-5* | 167 | 1 | 167
—Game Bird Propagation, 3-200-10e | 18 | 1 | 18
Notice of Transfer, 3-186* | 300 | 0.17 (10 min) | 50
Ann. Report Game Bird Prop., 3-202-6 | 73 | 0.5 (30 min) | 36
—Miscellaneous, 3-200-10f | 20 | 1 | 20
Ann. Report, 3-202-7 | 227 | 0.5 (30 min) | 113
Falconry, 3-200-11 | 283 | 1 | 283 | 50 CFR 21.2, 21.11, 21.28.
Disposition Report, 3-186 A* | 11,000 | 0.17 (10 min) | 1,833
Raptor Propagation, 3-200-12 | 48 | 1.5 | 72 | 50 CFR 21.2, 21.11, 21.30.
Disposition Report, 3-186 A* | 5,000 | 0.17 (10 min) | 833
Annual Report—Raptor Prop., 3-202-8 | 389 | 1 | 389
Depredation, 3-200-13 | 788 | 1.5 | 1,182 | 50 CFR 21.2, 21.11, 21.41.
Annual Report—Depredation, 3-202-9* | 2,542 | 1 | 2,542
Bald & Golden Eagle:
—Exhibition, 3-200-14a | 31 | 2.5 | 77 | 50 CFR 22.1, 22.2, 22.12, 22.21.
Annual Report—Education, 3-202-5* | 1,743 | 1 | 1,743
—Scientific Collecting/Research, 3-200-14b | 2 | 3 | 6
Ann. Report—Sci. Collecting, 3-202-1*, | 24 | 1 | 24
Eagle—Native American Religious: Permit Application, Shipping Request, and Tribal Certification, 3-200-15/15a | 1,083 | 0.5 (30 min) | 541 | 50 CFR 22.1, 22.2, 22.12, 22.22.
Take of Depredating Eagles, 3-200-16 | 11 | 1 | 11 | 50 CFR 22.1, 22.2, 22.12, 22.23.
Annual Report Depredation, 3-202-9* | 11 | 1 | 11
Eagle Falconry, 3-200-17 | 2 | 1 | 2 | 50 CFR 22.1, 22.2, 22.12, 22.24.
Take of Golden Eagle Nests, 3-200-18 | 2 | 4 | 8 | 50 CFR 22.1, 22.2, 22.12, 22.25.
Renewal of a Permit, 3-200-68 | 7,444 | 0.25 (15 min) | 1,861 | 50 CFR 13.21, 13.22.
CITES Import/Export/Eagle Transport for Exhibition/Scientific Research, 3-200-69 | 50 | 1 | 50 | 50 CFR 22.21, 23.11, 23.12, 23.13, 23.15.
CITES Import/Export/Eagle Transport for Indian Religious Purposes, 3-200-70 | 250 | 1 | 250 | 50 CFR 22.22, 23.11, 23.12, 23.13, 23.15.

OMB Control Number: 1018-0022.

Service Form Numbers: 3-200-6 through 3-200-18, 3-200-67 through 3-200-70, 3-202-1 through 3-202-9, 3-186, 3-186A.

Description of Respondents: Individuals, zoological parks, museums, universities, scientists, taxidermists, businesses; State, local, Tribal and Federal governments.

Number of Respondents: 29,944.

Frequency of Collection: On Occasion.

Total Annual Burden hours: 22,234.

Total Annual Responses: 47,326.

Total Annual Non-hour Cost Burden: $245,775.

Dated: February 14, 2001.
Rebecca A. Mullin,
Service Information Collection Officer.

[FR Doc. 01-5656 Filed 3-7-01; 8:45 am]

BILLING CODE 4310-55-P